COUNCIL ON ENVIRONMENTAL QUALITY

Guiding Principles for Sustainable Federal Buildings

AGENCY: Council on Environmental Quality.

ACTION: Notice of Availability of Guiding Principles for Sustainable Federal Buildings and Associated Instructions and Determining Compliance with the Guiding Principles for Sustainable Federal Buildings.

SUMMARY: The Council on Environmental Quality (CEQ) has issued updated guidance to Federal agencies outlining the key principles and primary requirements for the design, construction, modernization, and operation of new and existing sustainable Federal buildings, as required under Executive Order 13693 (“E.O. 13693”), “Planning for Federal Sustainability in the Next Decade,” signed by President Obama on March 19, 2015, 80 FR 15871, March 25, 2015. Section 4(f) of E.O. 13693 calls for “revised Guiding Principles for both new and existing Federal buildings . . .” to support Federal efforts to improve the environmental performance, climate resilience, and occupant health and wellness as well as increase the operating efficiency of Federal buildings.

DATES: The Guiding Principles for Sustainable Federal Buildings and Associated Instructions and Determining Compliance with the Guiding Principles for Sustainable Federal Buildings were issued on February 26, 2016.

ADDRESSES: The Guiding Principles for Sustainable Federal Buildings and Associated Instructions and Determining Compliance with the Guiding Principles for Sustainable Federal Buildings, are available at: https://www.whitehouse.gov/administration/eop/ceq/sustainability.

FOR FURTHER INFORMATION CONTACT: Amy Porter, Office of Federal Sustainability, at aporter@ceq.eop.gov or (202) 395-5750.

SUPPLEMENTARY INFORMATION: The guidance documents apply only to Federal agencies, operations, and programs. Agencies are expected to follow the Guiding Principles documents as part of their compliance with E.O. 13693.

Authority: E.O. 13693, 80 FR 15871.

Dated: February 26, 2016.
Christine Harada,
Federal Chief Sustainability Officer, Council on Environmental Quality.

[FR Doc. 2016-04563 Filed 3-1-16; 8:45 am]

BILLING CODE 3225-F6-P